DEPARTMENT OF THE INTERIOR

Bureau of Ocean Energy Management (BOEM)

Notice of Availability of the Proposed Notice of Sale for Outer Continental Shelf (OCS) Oil and Gas Lease Sale 229 in the Western Planning Area (WPA) in the Gulf of Mexico

AGENCY: Bureau of Ocean Energy Management, Interior.

ACTION: Notice of Availability of the Proposed Notice of Sale for Proposed Sale 229.

SUMMARY: BOEM announces the availability of the Proposed Notice of Sale (NOS) for proposed Sale 229 in the WPA. This sale will be the first under the Proposed Final OCS Oil and Gas Leasing Program for 2012-2012. With regard to oil and gas leasing on the OCS, the Secretary of the Interior, pursuant to section 19 of the OCS Lands Act, provides the affected states the opportunity to review the proposed NOS. The proposed NOS sets forth the proposed terms and conditions of the sale, including minimum bids, royalty rates, and rentals.

DATES: Affected states may comment on the size, timing, and location of proposed Sale 229 within 60 days following their receipt of the proposed NOS. The final NOS will be published in the Federal Register at least 30 days prior to the date of bid opening. Bid opening is currently scheduled for November 28, 2012.

SUPPLEMENTARY INFORMATION: This Notice is published pursuant to 30 CFR 556.29(c) as a matter of information to the public. The proposed NOS for Sale 229 and a “Proposed Notice of Sale Package” containing essential information for potential bidders may be obtained from the Public Information Unit, Gulf of Mexico Region, Bureau of Ocean Energy Management, 1201 Elmwood Park Boulevard, New Orleans, Louisiana 70123-2394. Telephone: (504) 736-2519.

Agency Contact: Donna Dixon, Leasing Division Chief, Donna.Dixon@boem.gov.

Dated: July 13, 2012.
Tommy P. Beaudreau,
Director, Bureau of Ocean Energy Management.

[FR Doc. 2012-17965 Filed 7-23-12; 8:45 am]

BILLING CODE 4310-MR-P